DEPARTMENT OF TRANSPORTATION

Federal Aviation Administration

14 CFR Part 71

[Docket No. FAA-2021-0250; Airspace Docket No. 20-AEA-22]

RIN 2120-AA66

Proposed Establishment and Amendment of Area Navigation Routes, Northeast Corridor Atlantic Coast Routes; Northeastern United States

AGENCY: Federal Aviation Administration (FAA), DOT.

ACTION: Notice of proposed rulemaking (NPRM).

SUMMARY: This action proposes to modify three existing high altitude area navigation (RNAV) routes (Q-routes), and establish one new Q-route, in support of the Northeast Corridor Atlantic Coast Route (NEC ACR) Project. This proposal would improve the efficiency of the National Airspace System (NAS) by expanding the availability of RNAV routing and reducing the dependency on ground-based navigational systems.

DATES: Comments must be received on or before June 7, 2021.

ADDRESSES: Send comments on this proposal to the U.S. Department of Transportation, Docket Operations, 1200 New Jersey Avenue SE, West Building Ground Floor, Room W12-140, Washington, DC 20590; telephone: 1 (800) 647-5527 or (202) 366-9826. You must identify FAA Docket No. FAA-2021-0250; Airspace Docket No. 20-AEA-22 at the beginning of your comments. You may also submit comments through the internet at https://www.regulations.gov.

FAA Order 7400.11E, Airspace Designations and Reporting Points, and subsequent amendments can be viewed online at httsp://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV routes in the NAS, increase airspace capacity, and reduce complexity in high air traffic volume areas.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0250; Airspace Docket No. 20-AEA-22) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-0250; Airspace Docket No. 20-AEA-22.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the internet at https://www.regulations.gov. Recently published rulemaking documents can also accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order 7400.11E, Airspace Designations and Reporting Points, dated July 21, 2020, and effective September 15, 2020. FAA Order 7400.11E is publicly available as listed in the ADDRESSES section of this proposed rule. FAA Order 7400.11E lists Class A, B, C, D, and E airspace areas, air traffic service routes, and reporting points.

Background

The Northeast Corridor Atlantic Coast Route (NEC ACR) project developed Performance Based Navigation (PBN) routes involving the Washington, Boston, New York, and Jacksonville Air Route Traffic Control Centers (ARTCC). The proposed routes would enable aircraft to travel from most locations along the east coast of the United States mainland between Maine and Charleston, SC. The proposed NEC ACR routes would also tie-in to the existing high altitude RNAV route structure enabling more efficient direct routings between the U.S. east coast and Caribbean area locations.

The routes in this notice of proposed rulemaking were originally part of a larger proposal that was published in the Federal Register for Docket No. FAA-2020-0236 (85 FR 16572; March 24, 2020). Subsequently, the restrictions imposed due to the COVID-19 pandemic precluded the completion of the air traffic controller training needed to implement all 30 route actions in the original proposal. As a result, only eight of the proposed routes could be implemented from Docket No. FAA-2020-0236 (85 FR 40089; July 6, 2020). An additional four of those route actions are being proposed again in this NPRM.

The Proposal

The FAA is proposing an amendment to 14 CFR part 71 to amend three existing Q-routes, and establish 1 new Q-route, in the northeastern United States to support the Northeast Corridor Atlantic Coast Route project. The proposed new route would be designated Q-419. In addition, amendments are proposed to the descriptions of the following existing routes: Q-22, Q-54, and Q-64.

The proposed new Q-route is as follows:

Q-419: Q-419 would extend between the BROSS, MD, Fix, and the Deer Park, NY (DPK), VOR/DME.

The proposed Q-route amendments are as follows:

Q-22: Q-22 extends between the GUSTI, LA, Fix, and the BEARI, VA, WP. This action would extend Q-22 northeast from the BEARI, VA, WP to the FOXWD, CT, WP. The following points would be inserted between the BEARI, VA, and the FOXWD, CT, WPs: UMBRE, VA, WP; BBOBO, VA, WP; SHTGN, MD, WP; SYFER, MD, WP; DANGR, MD, WP; PYTHN, DE, WP; BESSI, NJ, Fix; JOEPO, NJ, WP; BRAND, NJ, Fix; Robbinsville, NJ (RBV), VORTAC; LAURN, NY, Fix; LLUND, NY, Fix; and BAYYS, CT, Fix. As amended, Q-22 would extend between GUSTI, LA and FOXWD, CT. This would provide RNAV routing between Louisiana and the New England area.

Q-54: Q-54 extends between the Greenwood, SC (GRD), VORTAC, and the NUTZE, NC, WP. The proposal would remove the Greenwood VORTAC and add the HRTWL, SC, WP as a new end point for the route. In addition, the ASHEL, NC, WP would be added between the existing RAANE, NC, and the NUTZE, NC, WPs.

Q-64: Q-64 extends between the CATLN, AL, Fix, and the Tar River, NC (TYI), VORTAC. The proposal would remove the Greenwood, SC (GRD), VORTAC from the route and add the HRTWL, SC, WP between the FIGEY, GA and the DARRL, SC, Fixes. The DADDS, NC, WP and the MARCL, NC, WPs would be added between the existing IDDAA, NC, WP, and the Tar River VORTAC. Additionally, the route would be extended northeast from the Tar River VORTAC, through the GUILD, NC, WP to the SAWED, VA, Fix.

Full route descriptions of the proposed new and amended routes are listed in “The Proposed Amendment” section of this notice.

The proposed new and amended routes in this notice would expand the availability of high altitude RNAV routing along the eastern seaboard of the U.S. The project is designed to increase airspace capacity and reduce complexity in high volume areas through the use of optimized routes through congested airspace.

RNAV routes are published in paragraph 2006 of FAA Order 7400.11E dated July 21, 2020, and effective September 15, 2020, which is incorporated by reference in 14 CFR 71.1. The RNAV routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 2006 United States Area Navigation Routes.

* * * * *

Q-419 BROSS, MD to Deer Park, NY (DPK) [New]
BROSS, MD | FIX | (Lat. 39°11′28.40″ N, long. 075°52′49.88″ W)
MYFOO, DE | WP | (Lat. 39°26′10.15″ N, long. 075°36′44.70″ W)
NACYN, NJ | WP | (Lat. 39°36′49.19″ N, long. 075°24′59.30″ W)
BSERK, NJ | WP | (Lat. 39°47′27.01″ N, long. 075°13′10.29″ W)
HULKK, NJ | WP | (Lat. 39°59′53.04″ N, long. 074°58′52.52″ W)
Robbinsville, NJ (RBV) | VORTAC | (Lat. 40°12′08.65″ N, long. 074°29′42.09″ W)
LAURN, NY | FIX | (Lat. 40°33′05.80″ N, long. 074°07′13.67″ W)
Kennedy, NY (JFK) | VOR/DME | (Lat. 40°37′58.40″ N, long. 073°46′17.00″ W)
Deer Park, NY (DPK) | VOR/DME | (Lat. 40°47′30.30″ N, long. 073°18′13.17″ W)
* * * * * * *
Q-22 GUSTI, LA to FOXWD, CT [Amended]
GUSTI, LA | FIX | (Lat. 29°58′15.34″ N, long. 092°54′35.29″ W)
OYSTY, LA | FIX | (Lat. 30°28′15.21″ N, long. 090°11′49.14″ W)
ACMES, AL | WP | (Lat. 30°55′27.13″ N, long. 088°22′10.82″ W)
CATLN, AL | FIX | (Lat. 31°18′26.03″ N, long. 087°34′47.75″ W)
TWOUP, GA | WP | (Lat. 33°53′45.39″ N, long. 083°49′08.39″ W)
Spartanburg, SC (SPA) | VORTAC | (Lat. 35°02′01.05″ N, long. 081°55′37.24″ W)
NYBLK, NC | WP | (Lat. 35°34′34.99″ N, long. 081°02′33.96″ W)
MASHI, NC | WP | (Lat. 35°58′17.90″ N, long. 080°23′04.71″ W)
KIDDO, NC | WP | (Lat. 36°10′34.90″ N, long. 080°02′23.69″ W)
OMENS, VA | WP | (Lat. 36°49′29.00″ N, long. 078°55′29.78″ W)
BEARI, VA | WP | (Lat. 37°12′01.97″ N, long. 078°15′23.85″ W)
UMBRE, VA | WP | (Lat. 37°23′38.72″ N, long. 077°49′09.50″ W)
BBOBO, VA | WP | (Lat. 37°41′33.79″ N, long. 077°07′57.59″ W)
SHTGN, MD | WP | (Lat. 38°14′45.29″ N, long. 076°44′52.23″ W)
SYFER, MD | WP | (Lat. 38°25′19.31″ N, long. 076°33′26.82″ W)
DANGR, MD | WP | (Lat. 38°57′36.25″ N, long. 075°58′30.85″ W)
PYTHN, DE | WP | (Lat. 39°18′06.97″ N, long. 075°33′59.66″ W)
BESSI, NJ | FIX | (Lat. 39°40′34.84″ N, long. 075°06′44.53″ W)
JOEPO, NJ | WP | (Lat. 39°54′22.11″ N, long. 074°52′17.73″ W)
BRAND, NJ | FIX | (Lat. 40°02′06.28″ N, long. 074°44′09.50″ W)
Robbinsville, NJ (RBV) | VORTAC | (Lat. 40°12′08.65″ N, long. 074°29′42.09″ W)
LAURN, NY | FIX | (Lat. 40°33′05.80″ N, long. 074°07′13.67″ W)
LLUND, NY | FIX | (Lat. 40°51′45.04″ N, long. 073°46′57.30″ W)
BAYYS, CT | FIX | (Lat. 41°17′21.27″ N, long. 072°58′16.73″ W)
FOXWD, CT | WP | (Lat. 41°48′21.66″ N, long. 071°48′07.03″ W)
* * * * * * *
Q-54 HRTWL SC to NUTZE, NC [Amended]
HRTWL, SC | WP | (Lat. 34°15′05.33″ N, long. 082°09′15.55: W)
NYLLA, SC | WP | (Lat. 34°34′38.94″ N, long. 081°17′00.48″ W)
CHYPS, NC | WP | (Lat. 34°53′17.92″ N, long. 080°25′57.04″ W)
AHOEY, NC | WP | (Lat. 35°00′36.28″ N, long. 080°05′55.93″ W)
RAANE, NC | WP | (Lat. 35°09′21.97″ N, long. 079°41′33.90″ W)
ASHEL, NC | WP | (Lat. 35°25′43.32″ N, long. 078°54′48.07″ W)
NUTZE, NC | WP | (Lat. 35°50′40.43″ N, long. 077°40′56.72″ W)
* * * * * * *
Q-64 CATLN, AL to SAWED, VA [Amended]
CATLN, AL | FIX | (Lat. 31°18′26.03″ N, long. 087°34′47.75″ W)
FIGEY, GA | WP | (Lat. 33°52′26.94″ N, long. 082°52′22.76″ W)
HRTWL, SC | WP | (Lat. 34°15′05.33″ N, long. 082°09′15.55″ W)
DARRL, SC | FIX | (Lat. 34°47′49.47″ N, long. 081°03′21.62″ W)
IDDAA, NC | WP | (Lat. 35°11′05.10″ N, long. 079°59′30.69″ W)
DADDS, NC | WP | (Lat. 35°36′30.35″ N, long. 078°47′20.70″ W)
MARCL, NC | WP | (Lat. 35°43′54.41″ N, long. 078°25′46.57″ W)
Tar River, NC (TYI) | VORTAC | (Lat. 35°58′36.20″ N, long. 077°42′13.43″ W)
GUILD, NC | WP | (Lat. 36°18′49.56″ N, long. 077°14′59.96″ W)
SAWED, VA | FIX | (Lat. 37°32′00.73″ N, long. 075°51′29.10″ W)

* * * * *

Issued in Washington, DC, on April 19, 2021.
George Gonzalez,
Acting Manager, Rules and Regulations Group.

[FR Doc. 2021-08373 Filed 4-22-21; 8:45 am]

BILLING CODE 4910-13-P